DEPARTMENT OF TRANSPORTATION

Federal Aviation Administration

14 CFR Part 95

[Docket No. 31138; Amdt. No. 533]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 22, 2017.

FOR FURTHER INFORMATION CONTACT: Thomas J Nichols, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on May 19, 2017.
John Duncan,
Director, Flight Standards Service.

Adoption of the Amendment

Accordingly, pursuant to the authority delegated to me by the Administrator, part 95 of the Federal Aviation Regulations (14 CFR part 95) is amended as follows effective at 0901 UTC, June 22, 2017.

1. The authority citation for part 95 continues to read as follows:

Authority: 49 U.S.C. 106(g), 40103, 40106, 40113, 40114, 40120, 44502, 44514, 44719, 44721.

2. Part 95 is amended to read as follows:

Revisions to IFR Altitudes & Changeover Point Amendment 533 Effective Date June 22, 2017

FROM | TO | MEA | MAA
§ 95.3000 Low Altitude RNAV Routes
§ 95.3257 RNAV Route T257 Is Amended by Adding
VENTURA, CA VOR/DME | SAN MARCUS, CA VORTAC | 6300 | 17500
SAN MARCUS, CA VORTAC | MORRO BAY, CA VORTAC | 7300 | 17500
MORRO BAY, CA VORTAC | CALIS, CA FIX | 4100 | 17500
CALIS, CA FIX | BLANC, CA FIX | 3400 | 17500
BLANC, CA FIX | HNNTR, CA WP | 6600 | 17500
HNNTR, CA WP | DUBSS, CA WP | 7000 | 17500
DUBSS, CA WP | CAATE, CA WP | 6900 | 17500
CAATE, CA WP | CHAWZ, CA WP | 3900 | 17500
CHAWZ, CA WP | PORTE, CA FIX | 4200 | 17500
PORTE, CA FIX | THHEO, CA WP | 4200 | 17500
THHEO, CA WP | JAMIN, CA WP | 4300 | 17500
JAMIN, CA WP | POINT REYES, CA VOR/DME | 4300 | 17500
POINT REYES, CA VOR/DME | FREES, CA FIX | 3500 | 17500
FREES, CA FIX | NACKI, CA WP | 4900 | 17500
NACKI, CA WP | MENDOCINO, CA VORTAC | 5600 | 17500
MENDOCINO, CA VORTAC | MERRI, CA FIX | 5600 | 17500
MERRI, CA FIX | FLUEN, CA FIX | 5700 | 17500
FLUEN, CA FIX | PLYAT, CA FIX | 6800 | 17500
PLYAT, CA FIX | CCHUK, CA WP | 6700 | 17500
CCHUK, CA WP | CICRO, CA WP | 4800 | 17500
CICRO, CA WP | SEGVE, CA FIX | 3800 | 17500
SEGVE, CA FIX | SCUPY, CA WP | 2400 | 17500
SCUPY, CA WP | OLJEK, CA FIX | 2200 | 17500
OLJEK, CA FIX | CIGGA, CA WP | 1700 | 17500
CIGGA, CA WP | FURNS, CA WP | 2200 | 17500
FURNS, CA WP | MITUE, OR FIX | 4700 | 17500
MITUE, OR FIX | JANAS, OR FIX | 4600 | 17500
JANAS, OR FIX | NEWPORT, OR VORTAC | 4300 | 17500
NEWPORT, OR VORTAC | CUTEL, OR FIX | 4100 | 17500
CUTEL, OR FIX | EYCEH, OR WP | 4100 | 17500
EYCEH, OR WP | ILWAC, WA FIX | 2300 | 17500
ILWAC, WA FIX | ZEDAT, WA FIX | 2300 | 17500
ZEDAT, WA FIX | WAVLU, WA FIX | 2900 | 17500
WAVLU, WA FIX | HOQUIAM, WA VORTAC | 2900 | 17500
HOQUIAM, WA VORTAC | COPLS, WA WP | 2600 | 17500
COPLS, WA WP | WAPTO, WA FIX | 2900 | 17500
WAPTO, WA FIX | OZETT, WA WP | 3700 | 17500
OZETT, WA WP | TATOOSH, WA VORTAC | 4300 | 17500
Is Amended To Delete
BIG SUR, CA VORTAC | ISIFU, CA FIX | 7300 | 17500
ISIFU, CA FIX | SUTRO, CA FIX | 4900 | 17500
SUTRO, CA FIX | POINT REYES, CA VOR/DME | 4000 | 17500
§ 95.3259 RNAV Route T259 Is Amended by Adding
LAKE HUGHES, CA VORTAC | SHAFTER, CA VORTAC | 8800 | 17500
SHAFTER, CA VORTAC | AVENAL, CA VOR/DME | 4300 | 17500
AVENAL, CA VOR/DME | MBARI, CA WP | 6600 | 17500
MBARI, CA WP | LKHRN, CA WP | 6200 | 17500
LKHRN, CA WP | SALINAS, CA VORTAC | 6000 | 17500
SALINAS, CA VORTAC | CAATE, CA WP | 4000 | 17500
CAATE, CA WP | SANTY, CA FIX | *4000 | 17500
*3300—MOCA
SANTY, CA FIX | SAPID, CA FIX | 5200 | 17500
SAPID, CA FIX | CRTER, CA WP | 5500 | 17500
CRTER, CA WP | NORCL, CA WP | 6000 | 17500
NORCL, CA WP | *MOVDD, CA WP | 6000 | 17500
*5000—MCA MOVDD, CA WP, SW BND
MOVDD, CA WP | OOWEN, CA WP | 3500 | 17500
OOWEN, CA WP | OXJEF, CA WP | 2300 | 17500
OXJEF, CA WP | *SAAGO, CA WP | 7000 | 17500
*9600—MCA SAAGO, CA WP, E BND
SAAGO, CA WP | *BNAKI, CA WP | 11500 | 17500
*13200—MCA BNAKI, CA WP, E BND
BNAKI, CA WP | WEXIM, CA WP | 14700 | 17500
WEXIM, CA WP | NIKOL, CA FIX | 14600 | 17500
NIKOL, CA FIX | DAYMN, NV WP | 13100 | 17500
DAYMN, NV WP | ELY, NV VOR/DME | 12100 | 17500
Is Amended To Delete
SAN JOSE, CA VOR/DME | CEDES, CA FIX | 6200 | 17500
CEDES, CA FIX | MOVDD, CA WP | 5900 | 17500
*5000—MCA MOVDD, CA WP, SW BND
MOVDD, CA WP | SACRAMENTO, CA VORTAC | 3200 | 17500
§ 95.3261 RNAV Route T261 Is Amended by Adding
SANTA CATALINA, CA VORTAC | GAVIOTA, CA VORTAC | 6900 | 17500
GAVIOTA, CA VORTAC | MORRO BAY, CA VORTAC | *6200 | 17500
*5700—MOCA
MORRO BAY, CA VORTAC | CLMNS, CA FIX | 4100 | 17500
CLMNS, CA FIX | HRRNG, CA WP | 2300 | 17500
HRRNG, CA WP | HMPBK, CA WP | 2300 | 17500
*4300—MCA HMPBK, CA WP, N BND
HMPBK, CA WP | WOZZZ, CA WP | 5400 | 17500
*6600—MCA WOZZZ, CA WP, N BND
WOZZZ, CA WP | DUBSS, CA WP | 6900 | 17500
SALINAS, CA VORTAC | KARNN, CA FIX | 5500 | 17500
KARNN, CA FIX | WINDY, CA FIX | 4700 | 17500
WINDY, CA FIX | SMONE, CA WP | 5700 | 17500
SMONE, CA WP | MOVDD, CA WP | 5700 | 17500
*4700—MCA MOVDD, CA WP, SE BND
MOVDD, CA WP | RBLEW, CA WP | 3600 | 17500
RBLEW, CA WP | GIFME, CA WP | 2500 | 17500
GIFME, CA WP | HNNRY, CA WP | 2500 | 17500
HNNRY, CA WP | GRIDD, CA FIX | 3400 | 17500
*2600—MCA GRIDD, CA FIX, S BND
GRIDD, CA FIX | TALUM, CA FIX | 1800 | 17500
TALUM, CA FIX | JINGO, CA FIX | 1900 | 17500
JINGO, CA FIX | GONGS, CA FIX | 1800 | 17500
GONGS, CA FIX | HOMAN, CA FIX | 4800 | 17500
HOMAN, CA FIX | GARSA, CA FIX | 5500 | 17500
GARSA, CA FIX | CCAPS, CA WP | 9000 | 17500
CCAPS, CA WP | MUREX, CA FIX | 9500 | 17500
MUREX, CA FIX | MIXUP, OR FIX | 8600 | 17500
MIXUP, OR FIX | PIIKZ, OR WP | 8600 | 17500
PIIKZ, OR WP | TUPSE, OR WP | 9400 | 17500
TUPSE, OR WP | DESCHUTES, OR VORTAC | 6800 | 17500
DESCHUTES, OR VORTAC | HERBS, OR FIX | 6300 | 17500
HERBS, OR FIX | CUPRI, OR FIX | 6100 | 17500
CUPRI, OR FIX | SUPOC, OR WP | 5500 | 17500
SUPOC, OR WP | KUKTE, OR FIX | 6000 | 17500
KUKTE, OR FIX | VECCU, WA FIX | 5500 | 17500
VECCU, WA FIX | SUNSN, WA WP | 7000 | 17500
SUNSN, WA WP | MUDLE, WA FIX | 7100 | 17500
MUDLE, WA FIX | YAKIMA, WA VORTAC | 5300 | 17500
YAKIMA, WA VORTAC | SELAH, WA FIX | 5400 | 17500
SELAH, WA FIX | GEBTE, WA FIX | 6000 | 17500
GEBTE, WA FIX | LARDY, WA WP | 6000 | 17500
LARDY, WA WP | QUINT, WA FIX | 6400 | 17500
QUINT, WA FIX | KLSEY, WA WP | 5200 | 17500
KLSEY, WA WP | PAWYO, WA WP | 5100 | 17500
PAWYO, WA WP | HVARD, WA WP | 5400 | 17500
HVARD, WA WP | SOFFE, WA WP | 6500 | 17500
SOFFE, WA WP | JSTEN, WA WP | 6900 | 17500
Is Amended To Delete
WOODSIDE, CA VOR/DME | ALTAM, CA FIX | 5000 | 17500
§ 95.3263 RNAV Route T263 Is Amended by Adding
FILLMORE, CA VORTAC | DERBB, CA FIX | 11000 | 17500
DERBB, CA FIX | AVENAL, CA VOR/DME | 6600 | 17500
AVENAL, CA VOR/DME | PANOCHE, CA VORTAC | 7100 | 17500
PANOCHE, CA VORTAC | WINDY, CA FIX | 6400 | 17500
WINDY, CA FIX | SMONE, CA WP | 5700 | 17500
SMONE, CA WP | MOVDD, CA WP | 5700 | 17500
MOVDD, CA WP | RBLEW, CA WP | 3600 | 17500
RBLEW, CA WP | PITTS, CA FIX | 3400 | 17500
PITTS, CA FIX | SCAGGS ISLAND, CA VORTAC | 3400 | 17500
SCAGGS ISLAND, CA VORTAC | POPES, CA FIX | 4800 | 17500
POPES, CA FIX | NAKPT, CA WP | 5400 | 17500
NAKPT, CA WP | DIBLE, CA FIX | 4800 | 17500
DIBLE, CA FIX | KENDL, CA FIX | 4900 | 17500
KENDL, CA FIX | FOLDS, CA FIX | 6900 | 17500
FOLDS, CA FIX | HOMEG, CA WP | 10400 | 17500
HOMEG, CA WP | ZUNAS, CA FIX | 9900 | 17500
ZUNAS, CA FIX | TALEM, OR FIX | 9500 | 17500
TALEM, OR FIX | OREGN, OR WP | 7800 | 17500
OREGN, OR WP | EROWY, OR WP | 6000 | 17500
EROWY, OR WP | NOTTI, OR FIX | 5400 | 17500
NOTTI, OR FIX | CORVALLIS, OR VOR/DME | 4200 | 17500
CORVALLIS, OR VOR/DME | ARTTY, OR FIX | 4000 | 17500
ARTTY, OR FIX | NEWBERG, OR VOR/DME | 3900 | 17500
NEWBERG, OR VOR/DME | LOATH, OR FIX | 4400 | 17500
LOATH, OR FIX | WINLO, WA FIX | 5200 | 17500
WINLO, WA FIX | ULESS, WA FIX | 5400 | 17500
ULESS, WA FIX | MTLOK, WA WP | 5800 | 17500
MTLOK, WA WP | QUIIN, WA WP | 7200 | 17500
QUIIN, WA WP | ARRIE, WA FIX | 9100 | 17500
ARRIE, WA FIX | ELWHA, WA WP | 8900 | 17500
Is Amended To Delete
SUNOL, CA FIX | SCAGGS ISLAND, CA VORTAC | 4600 | 17500
§ 95.3298 RNAV Route T298 Is Added To Read
OAKLAND, CA VOR/DME | SALAD, CA FIX | 4300 | 17500
*4800—MCA SALAD, CA FIX, E BND
SALAD, CA FIX | ALTAM, CA FIX | 5000 | 17500
*4600—MCA ALTAM, CA FIX, W BND
ALTAM, CA FIX | RBLEW, CA WP | 4400 | 17500
*2700—MCA RBLEW, CA WP, W BND
RBLEW, CA WP | ORANG, CA FIX | 1800 | 17500
ORANG, CA FIX | EVETT, CA WP | 1800 | 17500
*2500—MCA EVETT, CA WP, E BND
EVETT, CA WP | ELKHN, CA WP | 6300 | 17500
*7500—MCA ELKHN, CA WP, E BND
ELKHN, CA WP | SMURA, CA WP | 9600 | 17500
*11700—MCA SMURA, CA WP, E BND
SMURA, CA WP | NIKOL, CA FIX | 14600 | 17500
*12200—MCA NIKOL, CA FIX, W BND
NIKOL, CA FIX | COALDALE, NV VORTAC | 11700 | 17500
COALDALE, NV VORTAC | KATTS, NV WP | 11400 | 17500
KATTS, NV WP | KITTN, NV WP | 13300 | 17500
KITTN, NV WP | WILSON CREEK, NV VORTAC | 11600 | 17500
WILSON CREEK, NV VORTAC | WOOOP, UT WP | 11900 | 17500
WOOOP, UT WP | MILFORD, UT VORTAC | 11600 | 17500
MILFORD, UT VORTAC | DETAN, UT FIX | 11900 | 17500
*12700—MCA DETAN, UT FIX, NE BND
DETAN, UT FIX | EBOVE, UT WP | 13400 | 17500
EBOVE, UT WP | CARBON, UT VOR/DME | 13200 | 17500
CARBON, UT VOR/DME | MYTON, UT VOR/DME | 11700 | 17500
MYTON, UT VOR/DME | ROCK SPRINGS, WY VOR/DME | 13700 | 17500
ROCK SPRINGS, WY VOR/DME | DORTN, WY WP | 10500 | 17500
DORTN, WY WP | CRAZY WOMAN, WY VOR/DME | 9300 | 17500
§ 95.3329 RNAV Route T329 Is Added To Read
MORRO BAY, CA VORTAC | PASO ROBLES, CA VORTAC | 5000 | 17500
PASO ROBLES, CA VORTAC | LKHRN, CA WP | 5900 | 17500
LKHRN, CA WP | PANOCHE, CA VORTAC | 6900 | 17500
PANOCHE, CA VORTAC | MKNNA, CA WP | 6400 | 17500
MKNNA, CA WP | OXJEF, CA WP | *6400 | 17500
*1600—MOCA
OXJEF, CA WP | TIPRE, CA WP | 2700 | 17500
TIPRE, CA WP | OLIPH, CA WP | 2700 | 17500
OLIPH, CA WP | HNNRY, CA WP | 2400 | 17500
HNNRY, CA WP | ROWWN, CA WP | 1800 | 17500
*3200—MCA ROWWN, CA WP, W BND
ROWWN, CA WP | RAGGS, CA FIX | 5100 | 17500
RAGGS, CA FIX | POPES, CA FIX | 4900 | 17500
POPES, CA FIX | NACKI, CA WP | 5900 | 17500
§ 95.3331 RNAV Route T331 Is Added To Read
NTELL, CA WP | MKNNA, CA WP | 2300 | 17500
MKNNA, CA WP | KARNN, CA FIX | 4700 | 17500
KARNN, CA FIX | VINCO, CA FIX | 6600 | 17500
VINCO, CA FIX | NORCL, CA WP | 6300 | 17500
NORCL, CA WP | MOVDD, CA WP | 6000 | 17500
MOVDD, CA WP | EVETT, CA WP | 3500 | 17500
EVETT, CA WP | TIPRE, CA WP | 2700
TIPRE, CA WP | ESSOH, CA WP | 6300 | 17500
*7800—MCA ESSOH, CA WP, NE BND
ESSOH, CA WP | SQUAW VALLEY, CA VOR/DME | 11200 | 17500
SQUAW VALLEY, CA VOR/DME | TRUCK, CA FIX | 11200 | 17500
TRUCK, CA FIX | MUSTANG, NV VORTAC | 11600 | 17500
MUSTANG, NV VORTAC | HIXUP, NV WP | 10300 | 17500
HIXUP, NV WP | LOVELOCK, NV VORTAC | 9300 | 17500
LOVELOCK, NV VORTAC | CUTVA, NV FIX | 10500 | 17500
*11900—MCA CUTVA, NV FIX, E BND
CUTVA, NV FIX | BATTLE MOUNTAIN, NV VORTAC | 11900 | 17500
BATTLE MOUNTAIN, NV VORTAC | PARZZ, NV WP | 10900 | 17500
PARZZ, NV WP | DRYAD, ID FIX | 10700 | 17500
DRYAD, ID FIX | TULIE, ID WP | 11400 | 17500
TULIE, ID WP | AMFAL, ID WP | 8300 | 17500
AMFAL, ID WP | POCATELLO, ID VOR/DME | 8300 | 17500
POCATELLO, ID VOR/DME | VIPUC, ID WP | 7700 | 17500
VIPUC, ID WP | IDAHO FALLS, ID VOR/DME | 7100 | 17500
IDAHO FALLS, ID VOR/DME | PULTE, ID FIX | 7100 | 17500
PULTE, ID FIX | SABAT, ID FIX | 7600 | 17500
SABAT, ID FIX | WAHNZ, ID WP | 9900 | 17500
WAHNZ, ID WP | BUFVO, WY WP | 11700 | 17500
BUFVO, WY WP | SPECT, MT WP | 14900 | 17500
SPECT, MT WP | BILLINGS, MT VORTAC | 8300 | 17500
BILLINGS, MT VORTAC | TRUED, MT WP | 6100 | 17500
TRUED, MT WP | EXADE, MT FIX | 5900 | 17500
EXADE, MT FIX | JEKOK, ND WP | 4400 | 17500
JEKOK, ND WP | FONIA, ND FIX | 4000 | 17500
§ 95.3333 RNAV Route T333 Is Added To Read
KLIDE, CA FIX | BORED, CA FIX | 6200 | 17500
BORED, CA FIX | SMONE, CA WP | 6100 | 17500
SMONE, CA WP | OOWEN, CA WP | 5700 | 17500
*4200—MCA OOWEN, CA WP, S BND
OOWEN, CA WP | EVETT, CA WP | 2300 | 17500
EVETT, CA WP | TIPRE, CA WP | 2700 | 17500

FROM | TO | MEA
§ 95.6001 VICTOR ROUTES—U.S.
§ 95.6087 VOR Federal Airway V87 Is Amended To Delete
SCAGGS ISLAND, CA VORTAC | MAXWELL, CA VORTAC | 5300
MAXWELL, CA VORTAC | RED BLUFF, CA VORTAC | 3000
§ 95.6088 VOR Federal Airway V88 Is Amended To Read in Part
NARCI, OK FIX | *WACCO, MO FIX | **6200
*6200—MCA WACCO, MO FIX, SW BND
**3100—MOCA
**4000—GNSS MEA
WACCO, MO FIX | *QUALM, MO FIX | **3700
*3700—MCA QUALM, MO FIX, W BND
**2500—MOCA
QUALM, MO FIX | SPRINGFIELD, MO VORTAC | 3000
§ 95.6109 VOR Federal Airway V109 Is Amended To Delete
PANOCHE, CA VORTAC | VOLTA, CA FIX | 5000
VOLTA, CA FIX | MANTECA, CA VOR/DME | *3000
*3000—GNSS MEA
MANTECA, CA VOR/DME | BYRON, CA FIX | 2000
BYRON, CA FIX | ALTAM, CA FIX |
W BND |  | 4500
E BND |  | 3500
ALTAM, CA FIX | *SALAD, CA FIX | 5000
*4700—MCA SALAD, CA FIX, NE BND
SALAD, CA FIX | *OAKLAND, CA VOR/DME | 4000
*4700—MCA OAKLAND, CA VOR/DME, NE BND
§ 95.6113 VOR Federal Airway V113 Is Amended To Delete
PANOCHE, CA VORTAC | VOLTA, CA FIX | 5000
VOLTA, CA FIX | MANTECA, CA VOR/DME | #*3000
*3000—GNSS MEA
#MANTECA R-147 UNUSABLE
MANTECA, CA VOR/DME | LINDEN, CA VOR/DME | 2000
Is Amended To Read in Part
PANOCHE, CA VORTAC | PATYY, CA FIX | 5000
PATYY, CA FIX | MODESTO, CA VOR/DME | *3000
*1500—MOCA
MODESTO, CA VOR/DME | LINDEN, CA VOR/DME | 2000
§ 95.6115 VOR Federal Airway V115 Is Amended To Read in Part
JAMESTOWN, NY VOR/DME | *LANGS, NY FIX | 3900
*11000—MCA LANGS, NY FIX, NE BND
§ 95.6161 VOR Federal Airway V161 Is Amended To Read In Part
TULSA, OK VORTAC | NOVEL, OK FIX | 3100
§ 95.6190 VOR Federal Airway V190 Is Amended To Read In Part
OSWEGO, KS VOR/DME | *WACCO, MO FIX | 3100
*3700—MCA WACCO, MO FIX, E BND
WACCO, MO FIX | *QUALM, MO FIX | **3700
*3700—MCA QUALM, MO FIX, W BND
**2500—MOCA
QUALM, MO FIX | SPRINGFIELD, MO VORTAC | 3000
§ 95.6195 VOR Federal Airway V195 Is Amended To Delete
MANTECA, CA VOR/DME | TRACY, CA FIX | *4100
*2900—MOCA
TRACY, CA FIX | *SUNOL, CA FIX | 5200
*4700—MCA SUNOL, CA FIX, NE BND
SUNOL, CA FIX | OAKLAND, CA VOR/DME | 4000
§ 95.6307 VOR Federal Airway V307 Is Amended To Read In Part
OSWEGO, KS VOR/DME | CHANUTE, KS VOR/DME | *3000
*2500—MOCA
§ 95.6405 VOR Federal Airway V405 Is Amended To Read In Part
SOLBERG, NJ VOR/DME | CARMEL, NY VOR/DME | *3000
*2500—MOCA
§ 95.6585 VOR Federal Airway V585 Is Amended To Delete
CLOVIS, CA VORTAC | *MENDO, CA FIX | 2000
*3000—MCA MENDO, CA FIX, SW BND
MENDO, CA FIX | PANOCHE, CA VORTAC | 4500
PANOCHE, CA VORTAC | VOLTA, CA FIX | 5000
VOLTA, CA FIX | MANTECA, CA VOR/DME | #*3000
*3000—GNSS MEA
MANTECA R-147 UNUSABLE
MANTECA, CA VOR/DME | LODDI, CA FIX | 2000
LODDI, CA FIX | SACRAMENTO, CA VORTAC | 3000

FROM | TO | MEA | MAA
§ 95.7001 Jet Routes
§ 95.7058 Jet Route J58 Is Amended To Delete
OAKLAND, CA VOR/DME | MANTECA, CA VOR/DME | 18000 | 45000
MANTECA, CA VOR/DME | COALDALE, NV VORTAC | 18000 | 45000
§ 95.7080 Jet Route J80 Is Amended To Delete
OAKLAND, CA VOR/DME | MANTECA, CA VOR/DME | 18000 | 45000
MANTECA, CA VOR/DME | COALDALE, NV VORTAC | 18000 | 45000
§ 95.7094 Jet Route J94 Is Amended To Delete
OAKLAND, CA VOR/DME | MANTECA, CA VOR/DME | 18000 | 45000
MANTECA, CA VOR/DME | MUSTANG, NV VORTAC | 19000 | 45000

[FR Doc. 2017-10741 Filed 5-24-17; 8:45 am]

BILLING CODE 4910-13-P